DEPARTMENT OF COMMERCE

National Oceanic and Atmospheric Administration

[I.D. 030507F]

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's Scientific and Statistical Committee will hold a Population Dynamics Sub-group public meeting.

DATES: The meeting will be held on Friday, March 30, 2007, from 10 a.m. to 4 p.m.

ADDRESSES: The meeting will be held at the Courtyard by Marriott, Baltimore-Washington Airport, 1671 Nursery Rd., Linthicum, MD 21090; telephone: (410) 859-8855.

Council address: Mid-Atlantic Fishery Management Council; 300 S. New Street, Room 2115, Dover, DE 19904; telephone: (302) 674-2331.

FOR FURTHER INFORMATION CONTACT: Daniel T. Furlong, Executive Director, Mid-Atlantic Fishery Management Council; 300 S. New Street, Room 2115, Dover, DE 19904; telephone: (302) 674-2331, extension 19.

SUPPLEMENTARY INFORMATION: The purpose of this meeting is to address issues related to recruitment dynamics and stock rebuilding for the Atlantic butterfish stock. Additional technical issues concerning standards defining best available scientific data may also be discussed.

Special Accommodations

The meeting is physically accessible to people with disabilities. Requests for sign language interpretation or other auxiliary aids should be directed to M. Jan Bryan at the Mid-Atlantic Council Office, (302) 674-2331 extension 18, at least 5 days prior to the meeting date.

Dated: March 6, 2007.
Tracey L. Thompson,
Acting Director, Office of Sustainable Fisheries, National Marine Fisheries Service.

[FR Doc. E7-4222 Filed 3-8-07; 8:45 am]

BILLING CODE 3510-22-S